UNITED STATES POSTAL SERVICE BOARD OF GOVERNORS

Sunshine Act Meeting

TIMES AND DATES: 10:30 a.m., Monday, November 5, 2001; 3:30 p.m., Monday, November 5, 2001.

PLACE: Washington, DC, at U.S. Postal Service Headquarters, 475 L'Enfant Plaza, SW., in the Benjamin Franklin Room.

STATUS: November 5—10:30 a.m. (Closed); November 5—3:30 p.m. (Open).

MATTERS TO BE CONSIDERED:

Monday, November 5—10:30 a.m. (Closed).

1. Financial Performance.

2. Strategic Planning.

3. Personnel Matters and Compensation Issues.

Monday, November 5—3:30 p.m. (Open)

1. Minutes of the Previous Meeting, October 1-2, 2001.

2. Remarks of the Postmaster General and CEO.

3. Tentative Agenda for the December 3-4, 2001, meeting in Washington, DC.

CONTACT PERSON FOR MORE INFORMATION: David G. Hunter, Secretary of the Board, U.S. Postal Service, 475 L'Enfant Plaza, SW., Washington, DC 20260-1000. Telephone (202) 268-4800.

David G. Hunter,
Secretary.

[FR Doc. 01-27176 Filed 10-24-01; 2:28 pm]

BILLING CODE 7710-12-M